DEPARTMENT OF COMMERCE

National Oceanic and Atmospheric Administration

50 CFR Part 216

RIN 0648-XG408

Implementation of Import Restrictions; Certification of Admissibility for Certain Fish Products From Mexico

AGENCY: National Marine Fisheries Service (NMFS), National Oceanic and Atmospheric Administration (NOAA), Commerce.

ACTION: Notification.

SUMMARY: The Secretary of Commerce, in cooperation with the Secretaries of Treasury and Homeland Security, is, under the authority of the Marine Mammal Protection Act (MMPA), giving notice of import restrictions on fish and fish products from Mexico caught with gillnets deployed in the range of the vaquita, an endangered porpoise. Importation into the United States from Mexico of fish and fish products harvested by gillnets in the upper Gulf of California (UGC) within the vaquita's geographic range is now prohibited. These import restrictions are being implemented as required by a court order. These trade restrictions remain in effect until further court action amends the preliminary injunction. Harmonized Tariff Schedule (HTS) codes associated with the prohibited fish and fish products are identified below. NMFS is also requiring that all other fish and fish products not within the scope of the import restrictions but imported under the same published HTS codes be accompanied by a Certification of Admissibility.

DATES: Compliance with the import restrictions and Certification of Admissibility described in this document is required beginning August 24, 2018, and will remain in effect until further notice is published in the Federal Register indicating otherwise.

FOR FURTHER INFORMATION CONTACT: Nina Young, NMFS F/IASI at email: Nina.Young@noaa.gov or phone: 301-427-8383.

SUPPLEMENTARY INFORMATION: In August 2016, NMFS published a final rule (81 FR 54390 (August 15, 2016); 50 CFR 216.24) implementing the fish and fish product import provisions (section 101(a)(2)) of the Marine Mammal Protection Act (MMPA). This final rule established conditions for evaluating a harvesting nation's regulatory programs to address incidental and intentional mortality and serious injury of marine mammals in its fisheries producing fish and fish products exported to the United States.

Under the final rule, fish or fish products cannot be imported into the United States from commercial fishing operations that result in the incidental mortality or serious injury of marine mammals in excess of U.S. standards (16 U.S.C. 1371(a)(2)). NMFS published a List of Foreign Fisheries (LOFF) on March 16, 2018 (83 FR 11703) to classify fisheries subject to the import requirements. Effective January 1, 2022, fish and fish products from fisheries identified by the Assistant Administrator for Fisheries in the LOFF can only be imported into the United States if the harvesting nation has applied for and received a comparability finding from NMFS. The rule established the procedures that a harvesting nation must follow and the conditions it must meet to receive a comparability finding for a fishery on the LOFF. The final rule established a five-year exemption period, ending January 1, 2022, under 50 CFR 216.24(h)(2)(ii) before imports would be subject to any trade restrictions.

Vaquita are a species of porpoise endemic to northern Gulf of California waters in Mexico and are listed as an endangered species under the U.S. Endangered Species Act. In November 2016, the International Committee for the Recovery of the Vaquita (CIRVA)—a group of international scientists supported by Mexico and led by Mexican scientists—reported that less than 30 individuals are likely to remain. Gillnets deployed in an illegal fishery for totoaba (an endangered fish sought for its swim bladder due to black market demand within China) are the primary source of vaquita mortality. NMFS has identified products coming from fisheries interacting with vaquita as a potential focus for import restrictions under the MMPA.

On May 18, 2017, the Natural Resources Defense Council (NRDC), Center for Biological Diversity (CBD), and the Animal Welfare Institute (AWI) petitioned the Secretaries of Homeland Security, the Treasury, and Commerce to “ban the importation of commercial fish or products from fish” sourced using fishing activities that “result in the incidental mortality or incidental serious injury” of vaquita “in excess of United States standards.” The petitioners requested that the Secretaries immediately ban imports of all fish and fish products from Mexico that do not satisfy the MMPA import provision requirements, claiming that emergency action banning such imports is necessary to avoid immediate, ongoing, and “unacceptable risks” to vaquita. NMFS published a notification of the petition's receipt on August 22, 2017 (82 FR 39732), and opened a 60-day comment period. No final decision has been taken on the petition.

On March 21, 2018, the petitioners filed suit before the Court of International Trade seeking an injunction requiring the U.S. Government to ban the import of fish or fish products from any Mexican commercial fishery that uses gillnets within the vaquita's range. On April 16, 2018, petitioners filed a motion for a preliminary injunction with oral arguments held July 10, 2018. The Court of International Trade granted the motion for preliminary injunction and denied the U.S. Government's motion to dismiss the lawsuit. The court has required the U.S. Government to ban the importation of all fish and fish products from Mexican commercial fisheries that use gillnets within the vaquita's range, pending final adjudication of the merits.

The Government of Mexico's existing Regulatory Agreement, published on June 30, 2017 (http://dof.gob.rax/nota_detalle.php?codigo=5488673&fecha=30/06/2017), provides that “gillnets, including driftnets, operated passively or in a dormant state by small vessels for fishing activities in the marine restricted area, are banned permanently.” This ban encompasses shrimp, sharks, and finfish (including chano). Fisheries for curvina and sierra, using actively deployed gear are exempt from this ban. Currently, only the gulf curvina fishery is authorized under fishing permits for small fishing vessels of the cooperative groups and permit holders of the Gulf of Santa Clara, Sonora. The fishing organizations of the Cucapah (an indigenous community) may also use gillnets actively deployed to capture curvina in a delimited zone, away from the Vaquita Refuge Area as authorized under the Manifestation of Environmental Impact (MIA) and the corresponding exemption granted by the Secretariat of Environment and Natural Resources (SEMARNAT). No gear is currently authorized for curvina fishermen operating from San Felipe or for sierra fisheries operating in the UGC. Under Mexican law, only trawl gear is authorized for use in the shrimp fishery.

Pursuant to court orders issued July 26, 2018 and August 14, 2018, the Court of International Trade (Slip-Op 18-92) required the U.S. Government to immediately ban the importation from Mexico of all shrimp, curvina, sierra, and chano fish and their products, imported under the HTS codes in Table 1, caught with gillnets inside the vaquita's range under section 101(a)(2) of the MMPA (16 U.S.C. 1371(a)(2). On August 14, 2018, in response to these orders, U.S. Customs and Border Protection (CBP), in cooperation with the NMFS, imposed immediate import restrictions on fish and fish products from Mexico caught with gillnets deployed in the range of the vaquita. CBP's action prohibits the importation into the United States from Mexico of all shrimp, curvina, sierra, and chano fish and fish products harvested by gillnets in the upper Gulf of California (UGC) within the vaquita's geographic range (Cargo Systems Messaging Service (CSMS) (#18-000482). The court-ordered preliminary injunction is effective immediately regardless of the five-year exemption under 50 CFR 216.24(h)(2)(ii).

Curvina, sierra, and chano are not imported into the United States under HTS codes that are specific to the type of fish. Instead these fish are imported under non-specific fish and marine fish codes. Consequently, the list in Table 1 includes those non-specific HTS codes necessary to encompass the range of probable codes used for products subject to the trade restriction. In addition, to effectuate the Court's ruling while allowing imports of seafood outside the scope of the court order, and to minimize disruptions to trade, fish and fish products of the same or similar fish or fish products imported to the United States under the HTS codes listed in Table 1 from Mexico that are not subject to these import prohibition must be accompanied by a Certification of Admissibility. The Certification of Admissibility and accompanying instructions are available at https://www.fisheries.noaa.gov/topic/international-affairs.

As of the compliance date, imports of the fish and fish products from Mexico and filed under the HTS codes listed in Table 1 are required to be accompanied by a Certification of Admissibility in order to obtain release of the inbound shipment. See DATES section for the compliance date of the requirement for Certification of Admissibility. The Certification of Admissibility is an information collection subject to the requirements of the Paperwork Reduction Act and has been approved by the Office of Management and Budget under control number 0648-0651.

Table 1—HTS Codes Requiring a Certification of Admissibility
Harmonized tariff schedule 2018 codes | Product description
0302.44.0000 | Fish, fresh or chilled, excluding fish fillets and other fish meat of heading 0304: Mackerel (Scomber scombrus, Scomber australasicus, Scomber japonicus) Fresh chilled whole Atlantic and Blue/Japanese Mackerel.
0302.45.1100 | Fish, fresh or chilled, excluding fish fillets and other fish meat of heading 0304: Jack and horse mackerel (Trachurus spp): Scaled (whether or not heads, viscera and/or fins have been removed, but not otherwise processed), in immediate containers weighing with their contents 6.8 kg or less.
0302.45.5000 | Fish, fresh or chilled, excluding fish fillets and other fish meat of heading 0304: Jack and horse mackerel (Trachurus spp): Other.
0302.49.0000 | Fish, fresh or chilled, excluding fish fillets and other fish meat of heading 0304: Herrings (Clupea harengus, Clupea pallasii), anchovies (Engraulis spp.), sardines (Sardina pilchardus, Sardinops spp.), sardinella (Sardinella spp.), brisling or sprats (Sprattus sprattus), mackerel (Scomber scombrus, Scomber australasicus, Scomber japonicus), Indian mackerels (Rastrelliger spp.), seerfishes (Scomberomorus spp.), jack and horse mackerel (Trachurus spp.), jacks, crevalles (Caranx spp.), cobia (Rachycentron canadum), silver pomfrets (Pampus spp.), Pacific saury (Cololabis saira), scads (Decapterus spp.), capelin (Mallotus villosus), swordfish (Xiphias gladius), Kawakawa (Euthynnus affinis), bonitos (Sarda spp.), marlins, sailfishes, spearfish (Istiophoridae), excluding edible fish offal of subheadings 0302.91 to 0302.99: Other Fish.
0302.59.1100 | Fish, fresh or chilled, excluding fish fillets and other fish meat of heading 0304: Fish of the families Bregmacerotidae, Euclichthyidae Gadidae, Macrouridae, Melanonidae, Merlucciidae, Moridae and Muraenolepididae, excluding edible fish offal of subheadings 0302.91 to 0302.99: Other Fish: Scaled (whether or not heads, viscera and/or fins have been removed, but not otherwise processed), in immediate containers weighing with their contents 6.8 kg or less.
0302.59.5090 | Fish, fresh or chilled, excluding fish fillets and other fish meat of heading 0304: Fish of the families Bregmacerotidae, Euclichthyidae Gadidae, Macrouridae, Melanonidae, Merlucciidae, Moridae and Muraenolepididae, excluding edible fish offal of subheadings 0302.91 to 0302.99: Other Fish: Other: Other fish.
0302.89.1140 | Fish, fresh or chilled, excluding fish fillets and other fish meat of heading 0304: Other fish, excluding edible fish offal of subheadings 0302.91 to 0302.99: Other: Scaled (whether or not heads, viscera and/or fins have been processed), in immediate containers weighing with their contents 6.8 kg or less: Other Fish.
0303.54.0000 | Fish, frozen, excluding fish fillets and other fish meat of heading 0304: Mackerel (Scomber scombrus, Scomber australasicus, Scomber japonicus).
0303.55.0000 | Fish, frozen, excluding fish fillets and other fish meat of heading 0304: Jack and horse mackerel (Trachurus spp.).
0303.59.0000 | Fish, frozen, excluding fish fillets and other fish meat of heading 0304: Other Fish.
0304.49.0190 | Fish, frozen, excluding fish fillets and other fish meat of heading 0304: Fish fillets and other fish meat (whether or not minced), fresh, chilled or frozen: Fresh or chilled fillets of other fish: Other: Other Fish.
0304.59.0091 | Fish, frozen, excluding fish fillets and other fish meat of heading 0304: Fish fillets and other fish meat (whether or not minced), fresh, chilled or frozen: Fresh or chilled fillets of other fish: Other Fish Chilled: Other.
0304.89.1090 | Fish, frozen, excluding fish fillets and other fish meat of heading 0304: Frozen fillets of other fish: Other: Skinned, whether or not divided into pieces, and frozen into blocks each weighing over 4.5 kg, imported to be minced, ground or cut into pieces of uniform weights and dimensions: Other Fish.
0304.89.5090 | Fish, frozen, excluding fish fillets and other fish meat of heading 0304: Frozen fillets of other fish: Other: Other Fish.
0304.99.1104 | Fish, frozen, excluding fish fillets and other fish meat of heading 0304: Other, frozen: Other: In bulk or in immediate containers weighing with their contents over 6.8 kg each: Minced: Surimi.
0304.99.1109 | Fish, frozen, excluding fish fillets and other fish meat of heading 0304: Other, frozen: Other: In bulk or in immediate containers weighing with their contents over 6.8 kg each: Minced: Other.
0304.99.1194 | Fish, frozen, excluding fish fillets and other fish meat of heading 0304: Other, frozen: Other: In bulk or in immediate containers weighing with their contents over 6.8 kg each: Other: Other Fish.
0304.99.9190 | Fish, frozen, excluding fish fillets and other fish meat of heading 0304: Other, frozen: Other: Other: Ocean Fish.
0305.10.2000 | Fish, dried, salted or in brine; smoked fish, whether or not cooked before or during the smoking process; flours, meals and pellets of fish, fit for human consumption: Flours, meals and pellets of fish, fit for human consumption: In bulk or in immediate containers weighing with their contents over 6.8 kg each.
0305.10.4000 | Fish, dried, salted or in brine; smoked fish, whether or not cooked before or during the smoking process; flours, meals and pellets of fish, fit for human consumption: Flours, meals and pellets of fish, fit for human consumption: Other.
0305.39.4000 | Fish, dried, salted or in brine; smoked fish, whether or not cooked before or during the smoking process; flours, meals and pellets of fish, fit for human consumption: Fish fillets, dried, salted or in brine, but not smoked: Mackerel, in immediate containers weighing with their contents 6.8 kg or less each.
0305.39.6180 | Fish, dried, salted or in brine; smoked fish, whether or not cooked before or during the smoking process; flours, meals and pellets of fish, fit for human consumption: Fish fillets, dried, salted or in brine, but not smoked: Other: Other Fish.
0305.49.2000 | Fish, dried, salted or in brine; smoked fish, whether or not cooked before or during the smoking process; flours, meals and pellets of fish, fit for human consumption: Smoked fish, including fillets, other than edible fish offal: Other: Mackerel.
0305.49.4045 | Fish, dried, salted or in brine; smoked fish, whether or not cooked before or during the smoking process; flours, meals and pellets of fish, fit for human consumption: Smoked fish, including fillets, other than edible fish offal: Other: Other Fish.
0305.54.0000 | Fish, dried, salted or in brine; smoked fish, whether or not cooked before or during the smoking process; flours, meals and pellets of fish, fit for human consumption: Dried fish, other than edible fish offal, whether or not salted but not smoked: Herrings (Clupea harengus, Clupea pallasii), anchovies (Engraulis spp.), sardines (Sardina pilchardus, Sardinops spp.), sardinella (Sardinella spp.), brisling or sprats (Sprattus sprattus), mackerel (Scomber scombrus, Scomber australasicus, Scomber japonicus), Indian mackerels (Rastrelliger spp.), seerfishes (Scomberomorus spp.), jack and horse mackerel (Trachurus spp.), jacks, crevalles (Caranx spp.), cobia (Rachycentron canadum), silver pomfrets (Pampus spp.), Pacific saury (Cololabis saira), scads (Decapterus spp.), capelin (Mallotus villosus), swordfish (Xiphias gladius), Kawakawa (Euthynnus affinis), bonitos (Sarda spp.), marlins, sailfishes, spearfish (Istiophoridae).
0305.59.0001 | Fish, dried, salted or in brine; smoked fish, whether or not cooked before or during the smoking process; flours, meals and pellets of fish, fit for human consumption: Dried fish, other than edible fish offal, whether or not salted but not smoked: Other Fish.
0305.69.2000 | Fish, dried, salted or in brine; smoked fish, whether or not cooked before or during the smoking process; flours, meals and pellets of fish, fit for human consumption: Fish, salted but not dried or smoked and fish in brine, other than edible fish offal: Mackerel: In immediate containers weighing with their contents 6.8 kg or less each.
0305.69.3000 | Fish, dried, salted or in brine; smoked fish, whether or not cooked before or during the smoking process; flours, meals and pellets of fish, fit for human consumption: Fish, salted but not dried or smoked and fish in brine, other than edible fish offal: Mackerel: Other.
0305.69.5001 | Fish, dried, salted or in brine; smoked fish, whether or not cooked before or during the smoking process; flours, meals and pellets of fish, fit for human consumption: Fish, salted but not dried or smoked and fish in brine, other than edible fish offal: Other Fish: In immediate containers weighing with their contents 6.8 kg or less each.
0305.69.6001 | Fish, dried, salted or in brine; smoked fish, whether or not cooked before or during the smoking process; flours, meals and pellets of fish, fit for human consumption: Fish, salted but not dried or smoked and fish in brine, other than edible fish offal: Other Fish: Other.
0305.79.0000 | Fish, dried, salted or in brine; smoked fish, whether or not cooked before or during the smoking process; flours, meals and pellets of fish, fit for human consumption: Fish fins, heads, tails, maws and other edible fish offal: Other Fish.
0306.17.0003 | Other shrimps and prawns: Shell-on, imported in accordance with Statistical Note 1 to this chapter: Count size (headless weight) less than 33 per kg (15s).
0306.17.0006 | Other shrimps and prawns: Shell-on, imported in accordance with Statistical Note 1 to this chapter: Count size (headless weight) 33-45 per kg (15-20s).
0306.17.0009 | Other shrimps and prawns: Shell-on, imported in accordance with Statistical Note 1 to this chapter: Count size (headless weight) 46-55 per kg (21-25s).
0306.17.0012 | Other shrimps and prawns: Shell-on, imported in accordance with Statistical Note 1 to this chapter: Count size (headless weight) 56-66 per kg (26-30s).
0306.17.0015 | Other shrimps and prawns: Shell-on, imported in accordance with Statistical Note 1 to this chapter: Count size (headless weight) 67-88 per kg (31-40s).
0306.17.0018 | Other shrimps and prawns: Shell-on, imported in accordance with Statistical Note 1 to this chapter: Count size (headless weight) 89-110 per kg (41-50s).
0306.17.0021 | Other shrimps and prawns: Shell-on, imported in accordance with Statistical Note 1 to this chapter: Count size (headless weight) 111-132 per kg (51-60s).
0306.17.0024 | Other shrimps and prawns: Shell-on, imported in accordance with Statistical Note 1 to this chapter: Count size (headless weight) 133-154 per kg (61-70s).
0306.17.0027 | Other shrimps and prawns: Shell-on, imported in accordance with Statistical Note 1 to this chapter: Count size (headless weight) more than 154 per kg (70s).
0306.17.0040 | Other shrimps and prawns: Peeled, imported in accordance with Statistical Note 1 to this chapter.
0306.36.0020 | Other shrimps and prawns: Shell-on.
0306.36.0040 | Other shrimps and prawns: Peeled.
0306.95.0020 | Other: Shrimps and prawns: Shell-on.
0306.95.0040 | Other: Shrimps and prawns: Peeled.
0511.99.3060 | Products chiefly used as food for animals or as ingredients in such food: Other.
1604.15.0000 | Prepared or preserved fish; caviar and caviar substitutes prepared from fish eggs: Fish, whole or in pieces, but not minced: Mackerel.
1604.19.4100 | Prepared or preserved fish; caviar and caviar substitutes prepared from fish eggs: Fish, whole or in pieces, but not minced: Other (including yellowtail): Other: Fish sticks and similar products of any size or shape, fillets or other portions of fish, if breaded, coated with batter or similarly prepared: Neither cooked nor in oil.
1604.19.5100 | Prepared or preserved fish; caviar and caviar substitutes prepared from fish eggs: Fish, whole or in pieces, but not minced: Other (including yellowtail): Other: Fish sticks and similar products of any size or shape, fillets or other portions of fish, if breaded, coated with batter or similarly prepared: Other.
1604.19.6100 | Prepared or preserved fish; caviar and caviar substitutes prepared from fish eggs: Fish, whole or in pieces, but not minced: Other (including yellowtail): Other: In oil and in bulk or in immediate containers weighing with their contents over 7 kg each.
1604.19.8200 | Prepared or preserved fish; caviar and caviar substitutes prepared from fish eggs: Fish, whole or in pieces, but not minced: Other (including yellowtail): Other: Other.
1604.20.0510 | Prepared or preserved fish; caviar and caviar substitutes prepared from fish eggs: Other prepared or preserved fish: Products containing meat of crustaceans, molluscs or other aquatic invertebrates; prepared meals: Prepared meals.
1604.20.0590 | Prepared or preserved fish; caviar and caviar substitutes prepared from fish eggs: Other prepared or preserved fish: Products containing meat of crustaceans, molluscs or other aquatic invertebrates; prepared meals: Other.
1604.20.1000 | Prepared or preserved fish; Other prepared or preserved fish: Other: Pastes.
1604.20.1500 | Prepared or preserved fish; Other prepared or preserved fish: Other: Balls, cakes and puddings: In oil.
1604.20.2000 | Prepared or preserved fish; Other prepared or preserved fish: Other: Balls, cakes and puddings: Not in oil: In immediate containers weighing with their contents not over 6.8 kg each: In airtight containers.
1604.20.2500 | Prepared or preserved fish; Other prepared or preserved fish: Other: Balls, cakes and puddings: Not in oil: In immediate containers weighing with their contents not over 6.8 kg each: Other.
1604.20.3000 | Prepared or preserved fish; Other prepared or preserved fish: Other: Balls, cakes and puddings: Not in oil: Other.
1604.20.4000 | Prepared or preserved fish; Other prepared or preserved fish: Fish sticks and similar products of any size or shape, if breaded, coated with batter or similarly prepared: Neither cooked nor in oil.
1604.20.5000 | Prepared or preserved fish; Other prepared or preserved fish: Fish sticks and similar products of any size or shape, if breaded, coated with batter or similarly prepared: Other.
1604.20.5010 | Prepared or preserved fish; Other prepared or preserved fish: Fish sticks and similar products of any size or shape, if breaded, coated with batter or similarly prepared: Other: Pre-cooked and frozen.
1604.20.5090 | Prepared or preserved fish; Other prepared or preserved fish: Fish sticks and similar products of any size or shape, if breaded, coated with batter or similarly prepared: Other: Other.
1604.20.6010 | Prepared or preserved fish; Other prepared or preserved fish: Pre-cooked and frozen.
1604.20.6090 | Prepared or preserved fish; Other prepared or preserved fish: Other.
1605.21.0500 | Crustaceans, molluscs and other aquatic invertebrates, prepared or preserved: Shrimps and prawns: Not in airtight containers: Products containing fish meat; prepared meals.
1605.21.1020 | Crustaceans, molluscs and other aquatic invertebrates, prepared or preserved: Shrimps and prawns: Not in airtight containers: Other: Frozen, imported in accordance with Statistical Note 1 to this chapter: Breaded.
1605.21.1030 | Crustaceans, molluscs and other aquatic invertebrates, prepared or preserved: Shrimps and prawns: Not in airtight containers: Other: Frozen, imported in accordance with Statistical Note 1 to this chapter: Other.
1605.21.1050 | Crustaceans, molluscs and other aquatic invertebrates, prepared or preserved: Shrimps and prawns: Not in airtight containers: Other: Other, imported in accordance with Statistical Note 1 to this chapter.
1605.29.0500 | Crustaceans, molluscs and other aquatic invertebrates, prepared or preserved: Shrimps and prawns: Other: Products containing fish meat; prepared meals.
1605.29.1010 | Crustaceans, molluscs and other aquatic invertebrates, prepared or preserved: Shrimps and prawns: Other: Frozen, imported in accordance with Statistical Note 1 to this chapter.
1605.29.1040 | Crustaceans, molluscs and other aquatic invertebrates, prepared or preserved: Shrimps and prawns: Other: Other: Other, imported in accordance with Statistical Note 1 to this chapter.
2309.10.0010 | Preparations of a kind used in animal feeding: Dog or cat food, put up for retail sale: In airtight containers.
2309.10.0090 | Preparations of a kind used in animal feeding: Dog or cat food, put up for retail sale: Other.
2309.90.1015 | Preparations of a kind used in animal feeding: Other: Mixed feeds or mixed feed ingredients: Other pet food, put up for retail sale.
2309.90.1050 | Preparations of a kind used in animal feeding: Other: Mixed feeds or mixed feed ingredients: Other.

The HTS codes applicable to the products subject to the requirements of the preliminary injunction may be revised from time to time due to updates to the HTS by the International Trade Commission. Any such changes will be notified to the trade community in accordance with CBP's notification procedures. In addition, NMFS and CBP will actively monitor the border operations of the trade restriction and the certification requirement in the initial weeks of implementation to determine if the list of affected HTS codes can be adjusted to further minimize disruption to trade while maintaining compliance with the court order.

Importers are advised to determine if other NMFS program requirements (e.g., Tuna Tracking and Verification Program, Seafood Import Monitoring Program) or other agency requirements (e.g., Fish and Wildlife Service, State Department, Food and Drug Administration) have Automated Commercial Environment (ACE) data reporting requirements applicable to the HTS codes identified in Table 1 as subject to certification under the MMPA import provisions. In such cases, the other reporting requirements still pertain in addition to the Certification of Admissibility requirements imposed to effectuate the court order.

Until such time as the Court of International Trade (or other court of competent appellate jurisdiction) lifts the preliminary injunction, trade restrictions on these products harvested by gillnets in the UGC of Mexico within the vaquita's range will continue and Certification of Admissibility will be required for the HTS codes listed in this notice.

Authority: 16 U.S.C. 1361 et seq.

Dated: August 23, 2018.
Samuel D. Rauch III,
Deputy Assistant Administrator for Regulatory Programs, National Marine Fisheries Service.

[FR Doc. 2018-18628 Filed 8-24-18; 4:15 pm]

BILLING CODE 3510-22-P